ENVIRONMENTAL PROTECTION AGENCY

40 CFR Part 1065

Engine-Testing Procedures

CFR Correction

In Title 40 of the Code of Federal Regulations, Part 1000 to End, revised as of July 1, 2009, on page 587, in § 1065.340, reinstate paragraph (f)(6)(iii) to read as follows:

§ 1065.340 Diluted exhaust flow (CVS) calibration.

* * * * *

(f) * * *

(6) * * *

(iii) The mean temperature at the venturi inlet, T̄in.

* * * * *

[FR Doc. 2010-14886 Filed 6-17-10; 8:45 am]

BILLING CODE 1505-01-D